ENVIRONMENTAL PROTECTION AGENCY

40 CFR Part 52

[EPA-R06-OAR-2016-0450; FRL-9953-95-Region 6]

Approval and Promulgation of Implementation Plans; Louisiana; Prevention of Significant Deterioration Significant Monitoring Concentration for Fine Particulates

AGENCY: Environmental Protection Agency (EPA).

ACTION: Proposed rule.

SUMMARY: The Environmental Protection Agency (EPA) is proposing to approve two revisions to the Louisiana State Implementation Plan (SIP) that revise the Louisiana Prevention of Significant Deterioration (PSD) permitting program to establish the significant monitoring concentration (SMC) for fine particles (PM2.5) at a zero microgram per cubic meter (0 μg/m³) threshold level consistent with federal permitting requirements. The EPA is proposing this action under section 110 and part C of the Clean Air Act (CAA or Act).

DATES: Written comments should be received on or before November 28, 2016.

ADDRESSES: Submit your comments, identified by EPA-R06-OAR-2016-0450, at http://www.regulations.gov or via email to wiley.adina@epa.gov. For additional information on how to submit comments see the detailed instructions in the ADDRESSES section of the direct final rule located in the rules section of this Federal Register.

FOR FURTHER INFORMATION CONTACT: Adina Wiley, (214) 665-2115, wiley.adina@epa.gov.

SUPPLEMENTARY INFORMATION: In the Rules and Regulations section of this issue of the Federal Register, the EPA is approving the State's SIP submittal as a direct rule without prior proposal because the Agency views this as noncontroversial submittal and anticipates no adverse comments. A detailed rationale for the approval is set forth in the direct final rule. If no relevant adverse comments are received in response to this action no further activity is contemplated. If the EPA receives relevant adverse comments, the direct final rule will be withdrawn and all public comments received will be addressed in a subsequent final rule based on this proposed rule. The EPA will not institute a second comment period. Any parties interested in commenting on this action should do so at this time.

For additional information, see the direct final rule which is located in the Rules and Regulations section of this Federal Register.

Dated: October 21, 2016.
Ron Curry,
Regional Administrator, Region 6.

[FR Doc. 2016-25991 Filed 10-27-16; 8:45 am]

BILLING CODE 6560-50-P